DEPARTMENT OF THE INTERIOR

Fish and Wildlife Service

Receipt of 41 Applications for Incidental Take Permits for Single Family and Duplex Residential Developments on the Fort Morgan Peninsula, Baldwin County, AL

AGENCY: Fish and Wildlife Service, Interior.

ACTION: Notice.

SUMMARY: The applicants (Ms. Shirley Baird, Mr. Edward Boykin, Mr. Richard Dorsey, Mr. Richard Eastman, Mr. Terry Elkins, Mr. Medford Foster, Mr. Ted Giles, Mr. John Griffin, Harrison Building, Mr. Kenneth Howald, Mr. Gary Hudson, Mr. Jerry Hutcherson, Mr. Dean Jones, Mr. Bobby Junkins, K-Developers LLC, Mr. James Keeling, Mr. James Klimback, Mr. Marshall Newport, Ms. Mary Powers, Mr. Bradley Redwine, Mr. Edwin Spence, Mr. Jackie Stokley, Mr. Olin Tumlin, and Mr. James Walker) have applied to the Fish and Wildlife Service (Service) for incidental take permits (ITP) under section 10(a)(1)(B) of the Endangered Species Act of 1973 (16 U.S. C. 1531 et seq.) (Act), as amended for the take of Alabama beach mouse (Peromyscus polionotus ammobates) (ABM). The proposed take would be incidental to the otherwise lawful activity of constructing 37 single-family and 5 duplex residences on the Fort Morgan Peninsula in Baldwin County, Alabama.

The applicants have prepared Habitat Conservation Plans (HCPs) in accordance with section 10(a)(2)(A) of the Act, specifying, among other things, the impacts that are likely to result from the taking and the measures each applicant would undertake to minimize and mitigate such impacts. A detailed description of the proposed minimization and mitigation measures is provided in the applicants' HCPs and in our Environmental Assessment (EA). The proposed action would involve approval of the HCPs if the statutory issuance criteria are satisfied. The EA considers the environmental impacts of the proposed projects on the environment.

DATES: Written comments on the ITP applications, HCPs, and EA should be sent to the Service's Regional Office (see ADDRESSES) and should be received on or before June 6, 2008.

ADDRESSES: Persons wishing to review the applications, HCPs, and EA may obtain an electronic copy on compact disk by writing the Service's Southeast Regional Office, Atlanta, Georgia, at the address below. Documents will also be available for public inspection by appointment during normal business hours at the Service's Regional Office, 1875 Century Boulevard, Suite 200, Atlanta, Georgia 30345 (Attn: Endangered Species Permits), or the Daphne Ecological Services Field Office, 1208-B Main Street, Daphne, Alabama 36526. Written data or comments concerning the applications or HCPs should be submitted to the Regional Office. Please reference Batch IV ITPs for 41 applications in requests for the documents discussed herein.

FOR FURTHER INFORMATION CONTACT: Mr. Aaron Valenta, Regional HCP Coordinator (see ADDRESSES), telephone: 404-679-4144, or Mr. Darren LeBlanc, Fish and Wildlife Service Biologist, Daphne Field Office (see ADDRESSES), telephone: 251-441-5859.

SUPPLEMENTARY INFORMATION: We announce applications for 41 ITPs, including the HCPs, and the availability of an EA. The EA is a combined assessment addressing the environmental impacts associated with these projects both individually and cumulatively. Copies of these documents may be obtained by making a request, in writing, to the Service's Regional Office (see ADDRESSES). This notice advises the public that we have opened the comment period on the ITP applications, the HCPs, and the EA. This notice is provided pursuant to section 10 of the Act and National Environmental Policy Act regulations at 40 CFR 1506.6.

We specifically request information, views, and opinions from the public on the Federal action, including the identification of any other aspects of the human environment not already identified in our EA. Further, we specifically solicit information regarding the adequacy of the HCPs as measured against our ITP issuance criteria found in 50 CFR parts 13.21 and 17.22.

If you wish to comment, you may submit comments by any one of several methods. Please reference Batch IV ITPs for 41 applications for residential development in such comments. You may mail comments to our Regional Office (see ADDRESSES). You may also comment via the Internet to aaron_valenta@fws.gov. Please include your name and return mailing address in your Internet message. If you do not receive a confirmation from us that we have received your Internet message, contact us directly at either telephone number listed (see FOR FURTHER INFORMATION CONTACT).

Finally, you may hand-deliver comments to either Service office listed (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

The ITPs would cover 41 discrete lots totaling 23.2 acres on the Fort Morgan Peninsula. Under the preferred alternative, project development would result in the overall loss of 4.25 acres of ABM habitat. Minimization and mitigation of impacts includes: reduced project impacts, maintenance of ABM habitat on-site, prohibition of cats, preservation of dune habitat, and elimination of debris.

We will evaluate the HCPs, applications, and any received comments to determine whether the applications meet the requirements of section 10(a) of the Act. If it is determined that those requirements are met, the ITPs will be issued for the incidental take of the ABM. We will also evaluate whether issuance of the section 10(a)(1)(B) ITPs comply with section 7 of the Endangered Species Act by conducting an intra-Service section 7 consultation. The results of this consultation, in combination with the above findings, will be used in the final analysis to determine whether or not to issue the ITPs.

Dated: April 30, 2008.
Noreen E. Walsh,
Acting Regional Director.

[FR Doc. E8-10052 Filed 5-6-08; 8:45 am]

BILLING CODE 4310-55-P